DEPARTMENT OF ENERGY

Federal Energy Regulatory Commission

[Docket No. GP02-2-000]

Dale P. and/or Avril Jewett; Notice of Petition for Adjustment

February 21, 2002.

Take notice that on January 3, 2002, Dale P. and/or Avril Jewett (the Jewetts) filed a petition for adjustment under section 502(c) of the Natural Gas Policy Act of 1978 (NGPA),¹ requesting to be relieved of its obligation to pay Kansas ad valorem tax refunds to Williams Gas Pipelines Central, Inc. for the period from 1983 to 1988, as required by the Commission's September 10, 1997 order in Docket No. RP97-369-000, et al.² The Jewetts's petition is on file with the Commission and open to public inspection.

¹ 15 U.S.C. § 3142(c) (1982).

² 80 FERC 61,264 (1997); order denying reh'g issued January 28, 1998, 82 FERC ¶ 61,058 (1998).

The Jewetts assert that paying the refund would constitute a burden since they are retired and are living on a fixed income. Dale Jewett was forced to retire in 1992 from Gould Oil Company Inc. and their small working interest ownership in the properties subject to the Commission's order was intended to be “in lieu” of a retirement plan. They state they receive only a very small gross revenue every few months that rarely meets the operating costs assessed by Gould.

Any person desiring to be heard or to protest said petition should on or before 15 days after the date of publication in the Federal Register of this notice, file with the Federal Energy Regulatory Commission, 888 First Street, NE., Washington, DC 20426, a motion to intervene or a protest in accordance with the requirements of the Commission's Rules of Practice and Procedure (18 CFR 385.1105 and 385.1106). Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-4600 Filed 2-26-02; 8:45 am]

BILLING CODE 6717-01-P